NATIONAL AERONAUTICS AND SPACE ADMINISTRATION

[Notice (05-062)]

NASA Advisory Council (NAC), Aeronautics Research Advisory Committee; Meeting

AGENCY: National Aeronautics and Space Administration (NASA).

ACTION: Notice of meeting change.

SUMMARY: In accordance with the Federal Advisory Committee Act, Pub. L. 92-463, as amended, the National Aeronautics and Space Administration announces a change of date for the meeting of the NASA Advisory Council, Aeronautics Research Advisory Committee (ARAC); Notice Number 05-035, March 7, 2005.

Previously Announced Dates and Addresses of Meeting: Wednesday, March 23, 2005, 8:30 a.m. to 5:15 p.m.; National Aeronautics and Space Administration, 300 E Street, SW., Room 6H46, Washington, DC 20546.

Changes in the Meeting: Date changed to May 3, 2005, 8:30 a.m. to 5:15 p.m.

FOR FURTHER INFORMATION CONTACT: Ms. Mary-Ellen McGrath, National Aeronautics and Space Administration, Washington, DC, (202) 358-4729.

P. Diane Rausch,
Advisory Committee Management Officer, National Aeronautics and Space Administration.

[FR Doc. 05-6064 Filed 3-28-05; 8:45 am]

BILLING CODE 7510-13-P